DEPARTMENT OF ENERGY

Federal Energy Regulatory Commission

[Docket No. RM10-12-000]

Electricity Market Transparency Provisions of Section 220 of the Federal Power Act; Notice of Technical Conference

The Federal Energy Regulatory Commission staff will hold a one-day conference on Order No. 768.¹ The conference will be held on December 12, 2012, in the Commission Meeting Room at 888 First Street NE., Washington, DC 20426.

¹ Electricity Market Transparency Provisions of Section 220 of the Federal Power Act, Order No. 768, 77 FR 61896 (Oct. 11, 2012), FERC Stats. & Regs. ¶ 31,336 (2012). The Office of Management and Budget (OMB) has yet to act upon the information collection requirements adopted in Order No. 768.

There will be a morning session and an afternoon session. The public may attend. The conference will principally address satisfying the Electric Quarterly Reports (EQRs) reporting requirements. The conference will not address the merits of issues raised on rehearing of Order No. 768. Advance registration is not required but is encouraged. Please register at https://www.ferc.gov/whats-new/registration/eqr-12-12-12-form.asp.

The morning session will begin at 9:00 a.m. (EST) and is intended for new EQR filers who are not currently filing EQR reports. However, anyone may attend. FERC staff will provide introductory and background information about the EQR, including data fields that existed prior to Order No. 768. These data fields include information on seller names, customer names, contract data, transaction data, product type, quantity, and rate, among others.

The afternoon session will begin at 1:00 p.m. (EST). This session is intended for all EQR filers, including new filers, and will focus on refinements to the existing filing requirements as set forth in Order No. 768, including the new data fields. The requirements for these data fields will include (1) reporting the trade date and type of rate; (2) identifying the exchange used for a sales transaction, if applicable; (3) reporting whether a broker was used to consummate a transaction; (4) reporting electronic tag ID data; and (5) reporting standardized prices and quantities for energy, capacity, and booked out power transactions, among others.

A free webcast of the conference will be available through www.ferc.gov. Anyone with Internet access interested in viewing this conference can do so by navigating to www.ferc.gov's Calendar of Events and locating this event in the Calendar. The event will contain a link to the webcast. Capitol Connection provides technical support for the webcasts and offers the option of listening to the conferences via phone-bridge for a fee. If you need technical support, please visit www.CapitolConnections.org or call (703) 993-3100.

Commission staff encourages participants to email questions in advance to eqr@ferc.gov. When emailing questions, please include “EQR Conference” in the subject line.

The conference will be transcribed and the transcript placed in the record in Docket No. RM 10-12.

FERC conferences and meetings are accessible under section 508 of the Rehabilitation Act of 1973. For accessibility accommodations, please send an email to accessibility@ferc.gov or call toll free (866) 208-3372 (voice) or 202-502-8659 (TTY), or send a fax to 202-208-2106 with the required accommodations.

For more information on this conference, please contact Sarah McKinley at sarah.mckinley@ferc.gov or (202) 502-8004 or Connie Caldwell at connie.caldwell@ferc.gov or (202) 502-6055.

Dated: November 9, 2012.
Kimberly D. Bose,
Secretary.

Agenda for the EQR Conference

RM10-12-000

(December 12, 2012)

9:00 a.m.-9:15 a.m. Greeting and Opening Remarks

9:15 a.m.-12:00 p.m. Presentation on EQR, including Pre-Order No. 768 Data Fields

12:00 p.m.-1:00 p.m. Break

1:00 p.m.-4:30 p.m. Presentation on Order No. 768, including New Data Fields

4:30 p.m.-4:45 p.m. Closing Remarks

[FR Doc. 2012-27962 Filed 11-15-12; 8:45 am]

BILLING CODE 6717-01-P